ENVIRONMENTAL PROTECTION AGENCY

40 CFR Part 63

[AD-FRL-6955-9]

RIN 2060-AF29

National Emission Standards for Hazardous Air Pollutants for Ferroalloys Production: Ferromanganese and Silicomanganese

AGENCY: Environmental Protection Agency (EPA).

ACTION: Proposed rule; amendments.

SUMMARY: We are proposing to amend the national emission standards for hazardous air pollutants (NESHAP) for Ferroalloys Production: Ferromanganese and Silicomanganese (40 CFR Part 63, Subpart XXX). Changes are being made in response to a petition for reconsideration submitted to the EPA following promulgation of the final rule, and a petition for review filed in the U.S. Court of Appeals for the District of Columbia Circuit. The revisions establish new emission limitations for ferromanganese and silicomanganese production in open submerged arc furnaces. We are establishing four subcategories within this category of furnaces and specifying numerical emission limitations for particulate matter (PM) for each, in order to account for differences in emission potential and control due to differences in furnace size, operating conditions, and alloy type.

In the Rules and Regulations section of this Federal Register, we are making this amendment in a direct final rule because we view these amendments as noncontroversial and we anticipate no adverse comments. We have explained our reasons for this amendment in the preamble to the direct final rule.

DATES: Comments. Submit comments on or before April 23, 2001.

Public Hearing. If anyone contacts us requesting to speak at a public hearing by April 11, 2001, we will hold a public hearing on April 23, 2001.

ADDRESSES: By U.S. Postal Service, send comments (in duplicate if possible) to: Air and Radiation Docket and Information Center (6102), Attention Docket Number A-92-59, U.S. Environmental Protection Agency, 1200 Pennsylvania Avenue, NW, Washington, DC 20460. In person or by courier, deliver comments (in duplicate if possible) to: Air and Radiation Docket and Information Center (6102), Attention Docket Number A-92-59, U.S. Environmental Protection Agency, 401 M Street, SW, Washington, DC 20460. The EPA requests that a separate copy of each public comment be sent to the contact person listed below.

Public Hearing. If a public hearing is held, it will be held at 10:00 a.m. in our Office of Administration Auditorium, Research Triangle Park, North Carolina, or at an alternate site nearby.

Docket. Docket No. A-92-59 contains supporting information used in developing the standards and guidelines. The docket is located at the U.S. Environmental Protection Agency, 401 M Street, SW, Washington, DC 20460 in room M-1500, Waterside Mall (ground floor), and may be inspected from 8:30 a.m. to 5:30 p.m., Monday through Friday, excluding legal holidays.

FOR FURTHER INFORMATION CONTACT: Mr. Conrad Chin, Metals Group, Emission Standards Division (MD-13), U.S. Environmental Protection Agency, Research Triangle Park, North Carolina 27711; telephone (919) 541-1512; facsimile (919) 541-5600; electronic mail address: chin.conrad@epamail.epa.gov.

SUPPLEMENTARY INFORMATION: A direct final rule identical to this proposal is published in the Rules and Regulations section of this Federal Register. If adverse comments are received on this proposal, the direct final rule will be withdrawn and the comments will be addressed in a subsequent final rule. If adverse comments are received only on a discrete portion of the rule, we will consider withdrawing only that portion of the rule. If no significant adverse comments are received, no further action will be taken on this proposal and the direct final rule will become effective on May 21, 2001.

The regulatory text for this proposal is identical to that for the direct final rule published in the Rules and Regulations section of this Federal Register. For further supplementary information, see the direct final rule published in the Federal Register.

What Are the Administrative Requirements for This Action?

Under Executive Order 12866 (58 FR 51735, October 4, 1993), this action is not a “significant regulatory action” and is, therefore, not subject to review by the Office of Management and Budget. In addition, since this action establishes no new requirements, it is not subject to the regulatory flexibility provisions of the Regulatory Flexibility Act (5 U.S.C. 601 et seq.), or to section 202 and 205 of the Unfunded Mandates Reform Act of 1995 (UMRA) (Public Law 104-4). In addition, this action does not significantly or uniquely affect small governments or impose a significant intergovernmental mandate, as described in sections 203 and 204 of UMRA. This action also does not significantly or uniquely affect the communities of tribal governments, as specified by Executive Order 13175 (65 FR 67249, January 1, 2001).

This action will not have substantial direct effects on the States, on the relationship between the national government and the States, or on the distribution of power and responsibilities among the various levels of government, as specified in Executive Order 13132 (64 FR 43255, August 10, 1999). This action also is not subject to Executive Order 13045 (62 FR 19885, April 23, 1997), because it is not economically significant.

This action does not involve technical standards; thus the requirements of section 12(d) of the National Technology Transfer and Advancement Act of 1995 (15 U.S.C. 272 note) do not apply. This action also does not involve special consideration of environmental justice related issues as required by Executive Order 12898 (59 FR 7629, February 16, 1994). In taking this action, we have taken the necessary steps to eliminate drafting errors and ambiguity, minimize potential litigation, and provide a clear legal standard for affected conduct, as required by section 3 of Executive Order 12988 (61 FR 4729, February 7, 1996). We have complied with Executive Order 12630 (53 FR 8859, March 15, 1988) by examining the takings implications of this action in accordance with the “Attorney General's Supplemental Guidelines for the Evaluation of Risk and Avoidance of Unanticipated Takings” issued under the Executive Order. This action does not impose an information collection burden under the provisions of the Paperwork Reduction Act of 1995 (44 U.S.C. 3501 et seq.).

List of Subjects in 40 CFR Part 63

Environmental protection, Air pollution control, Ferromanganese and silicomanganese production, Hazardous substances, Intergovernmental relations, Reporting and recordkeeping requirements.

Dated: March 15, 2001.
Christine Todd Whitman,
Administrator.

[FR Doc. 01-7027 Filed 3-21-01; 8:45 am]

BILLING CODE 6560-50-P